DEPARTMENT OF HEALTH AND HUMAN SERVICES

Administration for Community Living

Agency Information Collection Activities; Proposed Collection; Comment Request; State Program Report; OMB #0985-0008

AGENCY: Administration for Community Living, HHS.

ACTION: Notice.

SUMMARY: The Administration for Community Living (ACL) is announcing that the proposed collection of information listed above has been submitted to the Office of Management and Budget (OMB) for review and clearance as required under section 506(c)(2)(A) of the Paperwork Reduction Act of 1995. This 30-Day notice collects comments on the information collection requirements related to Proposed Revision for the information collection requirements related to the State Program Report.

DATES: Submit written comments on the collection of information by December 12, 2019.

ADDRESSES: Submit electronic comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Susan Jenkins, Director, Office of Performance and Evaluation, Administration for Community Living, Washington, DC 20201, Phone: (202) 795-7369, Email: Susan.Jenkins@acl.hhs.gov.

SUPPLEMENTARY INFORMATION: In compliance with 44 U.S.C. 3507, ACL has submitted the following proposed collection of information to OMB for review and clearance.

The Older Americans Act (OAA) requires annual program performance reports from States, the District of Columbia, and Territories. In compliance with this OAA provision, ACL developed a SPR in 1996 as part of its National Aging Program Information System (NAPIS). The SPR collects information about how State Agencies on Aging expend their OAA funds as well as funding from other sources for OAA authorized supportive services. The SPR also collects information on the demographic and functional status of the recipients, and is a key source for ACL performance measurement.

ACL is requesting approval from OMB to continue collecting data after expiration on 12/31/2019. This is a revision request to the 2016 approved version of the Reporting Requirements for Title III and VII State Program Report Definitions. The currently approved version of the State Program Report (SPR) includes language intended for usage in FY 2023. Since these data elements are not required for usage until FY 2023, under the Paperwork Reduction Act ACL is required to update the information collection (IC) to contain only the language and requirements for collection years 2020-2023. Removing the proposed FY 2023 language from the currently approved SPR causes a revision to OMB 0985-0008. ACL intends to seek OMB approval under a new OMB control number for the FY 2023-2026 data elements allowing usage of 0985-0008 until the new IC is approved and ready for usage.

Comments in Response to the 60-Day Federal Register Notice

A 60-Day Notice was published in the Federal Register on August 30, 2019, Vol. 84, No. 169, pp. 45768-45769. No comments were received. The proposed FY 2020 version posts on the ACL website link entitled Proposed State Program Report (SPR) Form 2020 Revision available at https://acl.gov/programs/performance-older-americans-act-programs. For review and comment on this proposed information collection request, please visit the ACL website https://www.acl.gov/about-acl/public-input.

Estimated Program Burden:

ACL estimates the burden associated with this collection of information as follows: 2,750 annual burden hours.

Respondent/data collection activity | Number of respondents | Responses per respondent | Hours per response | Annual burden hours
SPR | 55 | 1 | 50 | 2,750
Total | 55 | 1 | 50 | 2,750

Dated: November 1, 2019.
Mary Lazare,
Principal Deputy Administrator.

[FR Doc. 2019-24522 Filed 11-8-19; 8:45 am]

BILLING CODE 4154-01-P